ENVIRONMENTAL PROTECTION AGENCY

[FRL-8523-3]

Science Advisory Board Staff Office; Request for Nominations for Science Advisory Board Panel on Risk and Technology Review Assessments for Phase II Source Categories

AGENCY: Environmental Protection Agency (EPA).

ACTION: Notice.

SUMMARY: The EPA Science Advisory Board (SAB) Staff Office is announcing the formation of an SAB Expert panel to review and provide advice about draft risk assessments that evaluate the effects of industrial emissions of hazardous air pollutants (HAPs) on public health and the environment in accordance with EPA's Risk and Technology Review (RTR) Assessment. The SAB Staff Office is soliciting public nominations of technical experts for this panel.

DATES: Nominations should be submitted by February 21, 2008 per the instructions below.

FOR FURTHER INFORMATION CONTACT: Members of the public who wish to obtain further information regarding the submission of nominations may contact Dr. Resha M. Putzrath, via telephone at: (202) 343-9978 or e-mail at: putzrath.resha@epa.gov. The SAB Mailing address is: U.S. EPA Science Advisory Board (1400F), U.S. Environmental Protection Agency, 1200 Pennsylvania Avenue, NW., Washington, DC 20460. General information about the SAB as well as any updates concerning this request for nominations may be found on the SAB Web site at: http://www.epa.gov/sab.

Technical Contact: For questions and information concerning the Agency's draft technical documents and background information, contact Dr. Dave Guinnup, at: (919) 541-5368, or guinnup.dave@epa.gov.

SUPPLEMENTARY INFORMATION: Background: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Section 112(f)(2)(A) of the 1990 Clean Air Act Amendments (CAA) requires EPA to evaluate whether emission standards that were previously adopted under the technology-based, Maximum Achievable Control Technology (MACT) program provide an ample margin of safety to protect public health and prevent adverse environmental effects (taking into consideration costs, energy, safety, and other relevant factors). Within eight years of the promulgation of a MACT standard for the source category, EPA is mandated by the CAA to assess the risks to determine whether additional standards are needed.

EPA's Office of Air and Radiation has developed a Risk and Technology Review (RTR) Assessment Plan (referred to as RTR II) that has a streamlined approach. The SAB provided advice in a consultation on the RTR II in December 2006 [Consultation on EPA's Risk and Technology Review (RTR) Assessment Plan (EPA-SAB-07-009) available at: http://yosemite.epa.gov/sab/sabproduct.nsf/33152C83D29530F08525730D006C3ABF/$File/sab-07-009.pdf]. The SAB identified some key scientific issues and provided recommendations for the Plan. The SAB Panel being formed will review EPA's draft risk assessments developed under the RTR II approach, as modified to reflect SAB recommendations. These draft risk assessments will evaluate the potential risks to human health and the environment that remain after sources come into compliance with MACT.

Request for Nominations: The SAB Staff Office is requesting nominations for nationally and internationally recognized, non-EPA scientists with expertise and experience related to: Airborne (and possibly multi-pathway) fate-and-transport modeling of organic and inorganic chemicals; modeling of potential human exposures; modeling of human health risk; health effects of individual chemicals and mixtures of chemicals; risk assessment models and practices; uncertainty or sensitivity analyses; and risk communication theory and practice. The Agency is particularly interested in nominees with in-depth knowledge and experience in evaluating effects, exposure, and risk of hazardous air pollutants.

Process and Deadline for Submitting Nominations: Any interested person or organization may nominate qualified individuals with expertise and experience described above for consideration of service on the SAB Panel on Risk and Technology Review Assessments for Phase II Source Categories. Nominations should be submitted in electronic format through the SAB Web site at the following URL: http://yosemite.epa.gov/sab/sabproduct.nsf/Web/participatepanelformation?OpenDocument. Please follow the instructions for submitting nominations carefully. To be considered, nominations should include all of the information required on the associated forms. Anyone unable to submit nominations using the electronic form or who has any questions concerning the nomination process may contact Dr. Resha M. Putzrath, as indicated above in this notice. Nominations should be submitted in time to arrive no later than February 21, 2008.

To be considered, all nominations should include: A current curriculum vitae (C.V.) which provides the nominee's background, qualifications, research expertise, and relevant publications for service on the Panel; and a brief biographical sketch (“biosketch”). The biosketch should be no longer than one page and should contain the following information for the nominee: (a) Current professional affiliations and positions held; (b) area(s) of expertise, and research activities and interests relevant to the Panel; (c) leadership positions in national associations or professional publications or other significant distinctions; (d) educational background, especially advanced degrees, including when and from which institutions these were granted; and (e) service on other advisory committees or professional societies, especially those associated with issues under discussion in this review. Incomplete biosketches will not be considered. The EPA SAB Staff Office will acknowledge receipt of nominations.

The names and biosketches of qualified nominees identified by respondents to the Federal Register notice and additional experts identified by the SAB Staff will be posted on the SAB Web site accessible through a link for this panel at: http://yosemite.epa.gov/sab/sabproduct.nsf/WebBOARD/CommitteesandMembership?OpenDocument. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. To establish individual expert panels for the advisory activities described above, the SAB Staff Office will consider public comments on the “Short List” of candidates, information provided by the candidates themselves, and background information independently gathered by the SAB Staff Office. Specific criteria to be used for Panel membership include: (a) Scientific and/or technical expertise, knowledge, and experience (primary factors); (b) availability and willingness to serve; (c) absence of financial conflicts of interest; (d) absence of an appearance of a lack of impartiality; and (e) skills working in committees, subcommittees, and advisory panels; and (f) for the Panel as a whole, diversity of, and balance among, factors such as scientific expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://yosemite.epa.gov/sab/sabproduct.nsf/WebSABSO/ethics?OpenDocument.

The approved policy under which the EPA SAB Office selects subcommittees and review panels is described in the following document: Overview of the Panel Formation Process at the Environmental Protection Agency Science Advisory Board (EPA-SAB-EC-02-010), which is posted on the SAB Web site at: http://yosemite.epa.gov/sab/sabproduct.nsf/WebSABSO/OverviewPanelForm?OpenDocument.

Dated: January 24, 2008.
Anthony F. Maciorowski,
Deputy Director, EPA Science Advisory Board Staff Office.

[FR Doc. E8-1772 Filed 1-30-08; 8:45 am]

BILLING CODE 6560-50-P